ENVIRONMENTAL PROTECTION AGENCY

[FRL-8893-8]

Cross-Media Electronic Reporting Rule State Approved Program Revision Approval: State of North Dakota

AGENCY: Environmental Protection Agency (EPA).

ACTION: Notice.

SUMMARY: This notice announces EPA's approval, under regulations for Cross-Media Electronic Reporting, of the State of North Dakota's request to revise their EPA-authorized National Primary Drinking Water Regulations Implementation authorized program to allow electronic reporting of specific reports; this notice also announces an opportunity to request a public hearing on this action.

DATES: EPA's approval is effective on May 20, 2009 if no timely request for a public hearing is received and accepted by the Agency.

FOR FURTHER INFORMATION CONTACT: Evi Huffer, U.S. Environmental Protection Agency, Office of Environmental Information, Mail Stop 2823T, 1200 Pennsylvania Avenue, NW., Washington, DC 20460, (202) 566-1697, huffer.evi@epa.gov, or David Schwarz, U.S. Environmental Protection Agency, Office of Environmental Information, Mail Stop 2823T, 1200 Pennsylvania Avenue, NW., Washington, DC 20460, (202) 566-1704, schwarz.david@epa.gov. All requests for a hearing should be submitted to both of the above contacts.

SUPPLEMENTARY INFORMATION: On October 13, 2005, the final Cross-Media Electronic Reporting Rule (CROMERR) was published in the Federal Register (70 FR 59848) and codified as Part 3 of title 40 of the CFR. CROMERR establishes electronic reporting as an acceptable regulatory alternative to paper reporting and establishes requirements to assure that electronic documents are as legally dependable as their paper counterparts. Under Subpart D of CROMERR, State, tribe or local government agencies that receive, or wish to begin receiving, electronic reports under their EPA-authorized programs must apply to EPA for a revision or modification of those programs and get EPA approval. Subpart D also provides standards for such approvals based on consideration of the electronic document receiving systems that the State, tribe, or local government will use to implement the electronic reporting. Additionally, in § 3.1000(b) through (e) of 40 CFR part 3, Subpart D provides special procedures for program revisions and modifications to allow electronic reporting, to be used at the option of the State, tribe or local government in place of procedures available under existing program-specific authorization regulations. An application submitted under the Subpart D procedures must show that the State, tribe or local government has sufficient legal authority to implement the electronic reporting components of the programs covered by the application and will use electronic document receiving systems that meet the applicable Subpart D requirements.

On September 30, 2008, the State of North Dakota Department of Public Health (NDDPH) submitted an application for their Environmental Health Section Electronic Reporting Information System (ERIS) addressing revisions to their EPA-authorized 40 CFR Part 142 National Primary Drinking Water Regulations Implementation program.

EPA has reviewed NDDPH's request to revise their EPA-authorized program and, based on this review, EPA has determined that the application for the program and specific reports identified in this Notice, when compared to the Federal regulations, meet the standards for approval of authorized program revisions set out in 40 CFR part 3, subpart D. In accordance with 40 CFR 3.1000(d), this notice of EPA's decision to approve NDDPH's request for revision to their authorized program is being published in the Federal Register.

Specifically, EPA has approved NDDPH's request for revision to the following authorized program to allow electronic reporting for the specified reports:

• Program: Part 142—National Primary Drinking Water Regulations Implementation; Reports: drinking water data that does not require signature or includes an electronic signature, submitted under section 141.31.

NDDPH was notified of EPA's determination to approve its application with respect to the authorized program and specific reports listed above in a letter dated April 10, 2009.

Also, in today's notice, EPA is informing interested persons that they may request a public hearing on EPA's action to approve the State of North Dakota's request to revise its authorized public water system program under 40 CFR part 142, in accordance with 40 CFR 3.1000(f). Requests for hearings must be submitted to EPA within 30 days of publication of today's Federal Register notice. Such requests must include the following information:

(1) The name, address and telephone number of the individual, organization or other entity requesting a hearing;

(2) A brief statement of the requesting person's interest in EPA's determination, information demonstrating why this determination should be rescinded, and any other information that the requesting person intends to submit at such hearing; and

(3) The signature of the individual making the request, or, if the request is made on behalf of an organization or other entity, the signature of a responsible official of the organization or other entity.

In the event a hearing is requested and accepted, EPA will provide notice of the hearing in the Federal Register not less than 15 days prior to the scheduled hearing date. Frivolous or insubstantial requests for hearing may be denied by EPA. Following such a public hearing, EPA will review the record of the hearing and issue an order either affirming today's determination or rescinding such determination. If no timely request for a hearing is received and accepted, this action will become effective 30 days after today's notice is published, pursuant to CROMERR section 3.1000(f)(4).

Dated: April 8, 2009.
Lisa Schlosser,
Director, Office of Information Collection.

[FR Doc. E9-9013 Filed 4-17-09; 8:45 am]

BILLING CODE 6560-50-P